DEPARTMENT OF TRANSPORTATION

Coast Guard

33 CFR Part 3

[USCG-2002-12471]

RIN 2115-AG44

Navigation and Navigable Waters—Technical Amendments, Organizational Changes, Miscellaneous Editorial Changes and Conforming Amendments; Delay of Effective Date for Certain Amendments Relating to the Marine Inspection Zones and Captain of the Port Zones for Hampton Roads and Wilmington (NC)

AGENCY: Coast Guard, DOT.

ACTION: Final rule; delay of effective date for certain amendments.

SUMMARY: We are revising the effective date of two sections of a technical amendments rule published June 18, 2002, that will become effective June 28, 2002. That rule makes technical and organizational amendments to Coast Guard navigation and navigable waters regulations. The two sections of the rule that revise the boundaries between Hampton Roads Marine Inspection/Captain of the Port Zone and the Wilmington Marine Inspection/Captain of the Port Zone, will not become effective until October 1, 2002. This rule changes the effective date for just those two sections.

DATES: The effective date for the revisions to 33 CFR 3.25-10(b) and 3.25-20(b), published at 67 FR 41331, June 18, 2002, is delayed from June 28, 2002, until October 1, 2002.

FOR FURTHER INFORMATION CONTACT: If you have questions on this rule, call Robert Spears, Project Manager, Standards Evaluation and Development Division, (G-MSR-2), Coast Guard, at 202-267-1099. If you have questions on viewing, or submitting material to the docket, call Dorothy Beard, Chief, Dockets, Department of Transportation, at 202-366-5149.

SUPPLEMENTARY INFORMATION: On June 18, 2002, in Volume 67 of Federal Register Number 117, pages 41329-41334, the Coast Guard published a final rule entitled “Navigation and Navigable Waters—Technical Amendments, Organizational Changes, Miscellaneous Editorial Changes and Conforming Amendments.” The final rule made editorial and technical changes throughout title 33 of the Code of Federal Regulations (CFR) to update the title before recodification on July 1, 2002. The final rule updated organization names and addresses, and made conforming amendments and technical corrections.

Two revisions changed the boundaries between the Hampton Roads Marine Inspection/Captain of the Port Zone (33 CFR 3.25-10(b)) and the Wilmington Marine Inspection/Captain of the Port Zone (33 CFR 3.25-20(b)) (67 FR 41331). We anticipate that Coast Guard Marine Safety Office Wilmington will have a fully staffed, operation-ready detachment in place to serve the public in this new area of responsibility by September 2002. Therefore, we are making the revisions to 33 CFR 3.25-10(b) and 33 CFR 3.25-20(b) effective October 1, 2002.

Dated: June 21, 2002.
Joseph J. Angelo,
Director of Standards, Marine Safety, Security and Environmental Protection.

[FR Doc. 02-16237 Filed 6-26-02; 8:45 am]

BILLING CODE 4910-15-P